DEPARTMENT OF TRANSPORTATION

Federal Aviation Administration

14 CFR Part 71

[Docket No. FAA-2020-0896; Airspace Docket No. 20-ANM-17]

RIN 2120-AA66

Modification of Class D Airspace; McChord Field (Joint Base Lewis-McChord), WA

AGENCY: Federal Aviation Administration (FAA), DOT.

ACTION: Final rule.

SUMMARY: This action modifies the Class D airspace at McChord Field (Joint Base Lewis-McChord), Tacoma, WA. After a review of the airspace, the FAA found it necessary to amend the existing airspace for the safety and management of Instrument Flight Rules (IFR) operations at this location and Visual Flight Rules (VFR) at a satellite airport. This action removes a reference to the McChord Very High Frequency Omnidirectional Range beacon (VOR) from the legal description, updates the airport name and city, and amends the geographical coordinates for the airport to match the FAA's database.

DATES: Effective 0901 UTC, January 27, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov//air_traffic/publications/. For further information, you can contact the Airspace Policy Group, Federal Aviation Administration, 800 Independence Avenue SW, Washington, DC 20591; telephone: (202) 267-8783. The Order is also available for inspection at the National Archives and Records Administration (NARA). For information on the availability of FAA Order JO 7400.11F at NARA, email fr.inspection@nara.gov or go to https://www.archives.gov/federal-register/cfr/ibr-locations.html.

FOR FURTHER INFORMATION CONTACT: Richard Roberts, Federal Aviation Administration, Western Service Center, Operations Support Group, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, part A, subpart I, Section 40103. Under that section, the FAA is charged with prescribing regulations to assign the use of airspace necessary to ensure the safety of aircraft and the efficient use of airspace. This regulation is within the scope of that authority as it would modify the Class D airspace to support IFR operations at McChord Field (Joint Base Lewis-McChord), Tacoma, WA.

History

The FAA initiated a review of the assigned airspace at McChord Field (Joint Base Lewis-McChord), Tacoma, WA due to three events. The FAA decommissioned the McChord VOR because the U.S. Air Force will no longer maintain the NAVAID. As a result of the decommissioning, the FAA is required to redefine the airspace that uses the VOR as a reference and remove the reference from the associated airspace descriptions. The U.S. Air Force requested the elimination of airspace previously excluded for operations at Spanaway Airport (S44). In response, the FAA completed an airspace review to evaluate that request and the Class D airspace had not been examined in the previous two years as required by FAA Orders.

The FAA published a notice of proposed rulemaking; supplemental in the Federal Register (86 FR 39986; July 26, 2021) for Docket No. FAA-2020-0896 to modify the Class D airspace at McChord Field (Joint Base Lewis-McChord), Tacoma, WA. Interested parties were invited to participate in this rulemaking effort by submitting written comments on the proposal to the FAA. There were 29 comments received, with two of those from the Air Force. The military was not in favor of the proposal to provide Shady Acres Airpark (3B8) with airspace to accommodate their operations. However, FAA policy requires the use of shelves and/or cutouts to the extent practicable to exclude satellite airports from the Class D airspace. 3B8, from the north end of its runway, is only 0.3 nautical miles from the Class D airspace.

The Air Force declared that 3B8 is “requesting a shelf like the current Spanaway shelf that is being given back to TCM.” The FAA does not agree, as the two areas are neither similar in size nor shape. The proposal recommends a shelf for 3B8 of approximately 1.07 square miles and the shelf provided for S44 is approximately 11.21 square miles. In addition, the FAA is not “giving back” airspace to the Air Force, but rather assigning regulations for the use of the public's airspace to maximize safety and protect the public's right of transit. Title 49 of the United States Code (49 U.S.C.) Section 40103, entitled “Sovereignty and use of airspace”, is what provides the FAA its legal authority to manage the NAS. In that reference, it states, “A citizen of the United States has a public right of transit through the navigable airspace.” Minimizing the volume of airspace identified to satisfy justified airspace requirements when establishing or validating airspace actions ensures the FAA is being consistent with its legislated responsibilities. While the FAA is proposing to amend the exclusionary language for the area that was provided previously for operations at S44, it is doing so to protect aircraft operating under Instrument Flight Rules (IFR) at TCM and Visual Flight Rules (VFR) at 3B8.The military further stated they have developed a low level C-17 demonstration team and that the C-17s will fly throughout their Class D airspace at low altitudes for training. They also indicated a potential use of the Class D area to the southeast for practice approaches by Gray Army Airfield helicopters. Several factors mitigate these concerns.

• As explained, the FAA does not regulate airspace based on potential use, but rather justifiable need.

• The area proposed for 3B8 arrivals and departures is over congested areas of a city, town or settlement and aircraft must maintain a minimum altitude of 1,000 feet above the highest obstacle within a horizontal radius of 2,000 feet (.33 nm) of the aircraft, as outlined in Title 14 of the Code of Federal Regulations (CFR). The area proposed for 3B8 has a ceiling of 1,000 feet MSL or approximately 600 feet AGL. Due to the altitude restriction in Title 14, the C-17s would have to overfly most of this area at a minimum of 1,200 feet AGL to ensure they are 1,000 feet above the highest obstacles affecting the proposed airspace.

• The Traffic in this area, between October 2020 and October 2021, was operating at altitudes between 2,000 and 4,000 MSL except when entering the TCM Traffic Pattern, west of the proposed cutout, at 1,800 feet MSL.

• The area previously excluded from the Class D, which includes a much smaller area for 3B8, has been established for at least 30 years with a ceiling of 1,000 feet MSL, without adverse impact to the “Demonstration Team.”

• TCM has no IFR approaches to the southeast for practice. All approaches and departures at TCM operate north and south.

• TCM has restricted areas and Military Operations Areas established that provide airspace for low level demonstration flights and practice approaches.

• The lateral boundary of TCM's Class D airspace has been expanded a mile beyond that which is normally provided for a location with similar IFR procedures and terminal VFR operations, extending to a radius of 5.4 nautical miles. This additional area provides protection due to the density and diversity of aircraft that can operate in the airspace and circling at TCM. The airspace also includes an additional 1.2 nautical miles of Class D to the south for helicopters to transition safely east of the base.

The remaining comments were from the Airport Manager, private pilots, the Aircraft Owners and Pilots Association (AOPA) and interested businesses and citizens. All of these comments supported airspace being provided for operations at 3B8. Eight comments supported the proposal as drafted, five requested the airspace currently excluded for S44 be continued and ten commenters requested the FAA provide an exclusion from the Class D 1.5 miles west of 3B8 and 3 miles north, up to 1300 feet. AOPA recommended 2 miles west and a straight out approach to the north. Three comments were duplicates or additional comments from the same person. The FAA does not concur that the airspace excluded for S44 is necessary for the safety of VFR aircraft on approach or departure at 3B8. 3B8 is located 5.2 nm from the approach end of TCM runway (AER) 34 and is 0.3 nm outside the Class D area. S44, which is now closed, was within the lateral boundaries of the Class D at 2.8 nm from TCM AER 34. Also, the traffic pattern for 3B8 restricts approaches to east of the runway, mitigating interaction with the turbojets at TCM. However, the FAA does concur the thermal updrafts located 0.4 nm and 0.7 nm northeast of 3B8 and the potential for wake turbulence from C-17 overflights do pose a risk to operations and are a consideration in the design of the airspace.

Class D airspace designations are published in paragraph 5000 of FAA Order JO 7400.11F, dated August 10, 2021, and effective September 15, 2021, which is incorporated by reference in 14 CFR 71.1. The Class D airspace designation listed in this document will be published subsequently in FAA Order JO 7400.11F.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

This amendment to 14 CFR part 71 modifies the Class D airspace, extending upward from the surface, at McChord Field (Joint Base Lewis McChord), Tacoma, WA. The exclusion of Class D airspace that is southeast of the airport will be modified to facilitate the use of the airspace for aircraft arriving and departing 3B8, in keeping with FAA Directives. A portion of the airspace overlying Lakewood, WA would also be eliminated, as it is no longer needed.

In addition, the Legal Descriptions Heading will be corrected to identify the proper city and state, the name of the airport, and the geographical coordinates for McChord Field (Joint Base Lewis McChord) to match the FAA's National Airspace System Resource (NASR) database.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace Areas.

* * * * *

ANM WA D Tacoma, WA [AMEND]

McChord Field (Joint Base Lewis-McChord), WA

(Lat. 47°08′17″ N, long. 122°28′35″ W)

That airspace extending upward from the surface to and including 2,800 feet MSL within a 5.4-mile radius of the McChord Field (Joint Base Lewis-McChord), beginning at the point the 315° bearing intersects the 5.4-mile radius clockwise to the point where the 162° bearing intersects the 5.4-mile radius thence south to lat. 47°02′10″ N, long. 122°26′13″ W, thence west to lat. 47°02′21″ N, long. 122°31′31″ W, thence north to lat. 47°04′19″ N, long. 122°31′27″ W, thence northwest to lat. 47°08′47″ N, long. 122°35′11″ W, thence east to lat. 47°08′35″ N, long. 122°33′03″ W, thence north to the point of beginning; and excluding that airspace at and below 1,000 feet MSL within an area bounded by a line beginning at the point the 119° bearing intersects the 5.4-mile radius clockwise to the point the 145° bearing intersects the 5.4-mile radius to lat. 47°04′34″ N, long. 122°24′2″ W; thence to lat. 47°05′43″ N, long. 122°22′24″ W; thence to the point of beginning.

Issued in Des Moines, Washington, on November 18, 2021.
B.G. Chew,
Acting Group Manager, Operations Support Group, Western Service Center.

[FR Doc. 2021-25599 Filed 11-24-21; 8:45 am]

BILLING CODE 4910-13-P